DEPARTMENT OF COMMERCE

National Oceanic and Atmospheric Administration

[I.D. 013004E]

Endangered Species; File No.1295

AGENCY: National Marine Fisheries Service (NMFS), National Oceanic and Atmospheric Administration (NOAA), Commerce.

ACTION: Receipt of application for modification

SUMMARY: Notice is hereby given that the NMFS Northeast Fisheries Science Center (Responsible Official- Dr. John Boreman), 166 Water Street, Woods Hole, MA 02543-1097, has requested a modification to scientific research Permit No. 1295.

DATES: Written or telefaxed comments must be received on or before March 8, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period. Please note that comments will not be accepted by e-mail or other electronic media.

FOR FURTHER INFORMATION CONTACT: Patrick Opay, (301)713-1401 or Ruth Johnson, (301)713-2289.

SUPPLEMENTARY INFORMATION: The subject modification request to Permit No. 1295, issued on June 4, 2001 (66 FR 29934) is requested under the authority of the Endangered Species Act of 1973, as amended (16 U.S.C. 1531 et seq.) and the regulations governing the taking, importing, and exporting of endangered and threatened species (50 CFR 222-226).

Permit No. 1295 authorizes the permit holder to take 5 loggerhead (Caretta caretta), 1 leatherback (Dermochelys imbricata), 2 Kemp's ridley (Lepidochelys kempii), 1 hawksbill (Eretmochelys imbricata), and 2 green (Chelonia mydas) sea turtles for scientific research. The permit holder requests authorization: (1) to allow research designed to develop and test methods to reduce incidental bycatch that occurs in commercial pound net and scallop drag fisheries, and (2) to authorize sampling of turtles captured incidentally during the NEFSC biennial shark longline surveys. The permit holder proposes to take an additional 113 loggerhead, 2 green, 40 Kemp's ridley, and 2 leatherback sea turtles annually during the remaining 2 years of the permit. Turtles will be measured, flipper and PIT tagged, biopsied and released. A total of up to 4 loggerhead and 3 Kemp's ridley sea turtle interactions are expected to result in lethal takes. The research will be conducted in the shelf waters of the Atlantic Ocean from Cape Hatteras to the Gulf of Maine.

Dated: January 30, 2004.
Amy C. Sloan,
Acting Chief, Permits, Conservation and Education Division, Office of Protected Resources, National Marine Fisheries Service.

[FR Doc. 04-2417 Filed 2-4-04; 8:45 am]

BILLING CODE 3510-22-S